DEPARTMENT OF TRANSPORTATION

Federal Aviation Administration

14 CFR Part 71

[Docket No. FAA-2024-2512; Airspace Docket No. 24-AEA-9]

RIN 2120-AA66

Amendment of Domestic Very High Frequency Omnidirectional Range (VOR) Federal Airways V-1, V-29, V-38, V-139, and V-286; Eastern United States

AGENCY: Federal Aviation Administration (FAA), DOT.

ACTION: Notice of proposed rulemaking (NPRM).

SUMMARY: This action proposes to amend domestic Very High Frequency Omnidirectional Range (VOR) Federal Airways V-1, V-29, V-38, V-139, and V-286 in the eastern United States. The FAA is taking this action due to the planned decommissioning of the Salisbury, MD (SBY) VOR/Tactical Air Navigation (VORTAC) and the Snow Hill, MD (SWL), VORTAC. This action is in support of the FAA's VOR Minimum Operational Network (MON) Program.

DATES: Comments must be received on or before January 10, 2025.

ADDRESSES: Send comments identified by FAA Docket No. FAA-2024-2512 and Airspace Docket No. 24-AEA-9 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, section 106 describes the authority of the FAA Administrator. Subtitle VII, Aviation Programs, describes in more detail the scope of the agency's authority. This rulemaking is promulgated under the authority described in Subtitle VII, Part A, Subpart I, section 40103. Under that section, the FAA is charged with prescribing regulations to assign the use of the airspace necessary to ensure the safety of aircraft and the efficient use of airspace. This regulation is within the scope of that authority as it amends the route structure to maintain the efficient flow of air traffic within the National Airspace System (NAS).

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Eastern Service Center, Federal Aviation Administration, Room 210, 1701 Columbia Avenue, College Park, GA 30337.

Incorporation by Reference

Domestic VOR Federal airways are published in paragraph 6010(a) of FAA Order JO 7400.11, Airspace Designations and Reporting Points, which is incorporated by reference in 14 CFR 71.1 on an annual basis. This document proposes to amend the current version of that order, FAA Order JO 7400.11J, dated July 31, 2024, and effective September 15, 2024. These updates would be published in the next update to FAA Order JO 7400.11. That order is publicly available as listed in the ADDRESSES section of this document.

FAA Order JO 7400.11J lists Class A, B, C, D, and E airspace areas, air traffic service routes, and reporting points.

Background

The FAA is planning to decommission the Salisbury, MD (SBY), VORTAC and the Snow Hill, MD (SWL), VORTAC in August 2025. The Salisbury VORTAC and the Snow Hill VORTAC are candidate navigational aids (NAVAID) identified for discontinuance by the FAA's VOR MON program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

The Air Traffic Service (ATS) routes affected by the planned NAVAID decommissioning are VOR Federal Airways V-1, V-29, V-38, V-139, and V-286. With the planned decommissioning of the Salisbury VORTAC and the Snow Hill VORTAC, the remaining ground-based NAVAID coverage in the area is insufficient to enable the continuity of the affected ATS routes. As such, proposed modifications to V-29 and V-286 would result in the airways being shortened; to V-1 would result in a gap being created; and to V-38 and V-139 would result in the airway being redesigned.

To overcome the proposed modifications to the affected routes, instrument flight rules (IFR) traffic could use adjacent VOR Federal Airways V-38, V-139, V-155, and V-376 or receive air traffic control (ATC) radar vectors to fly through or circumnavigate the affected area. Additionally, IFR pilots with Area Navigation (RNAV)-equipped aircraft could also use the adjacent RNAV Routes T-224, T-291, T-303, T-307, T-315, T-320, and T-335; or navigate point-to-point using the existing fixes that will remain in place to support continued operations through the affected area. Visual flight rules (VFR) pilots who elect to navigate via airways through the affected area could also take advantage of ATC services listed previously.

The Proposal

The FAA is proposing an amendment to 14 CFR part 71 to amend domestic VOR Federal Airways V-1, V-29, V-38, V-139, and V-286 to support the planned decommissioning of the Salisbury, MD (SBY) VORTAC and the Snow Hill, MD (SWL), VORTAC. This action is in support of the FAA's VOR MON Program.

V-1: V-1 currently extends between the Craig, FL (CRG), VORTAC and the Boston, MA (BOS), VOR/Distance Measuring Equipment (VOR/DME). The FAA proposes to remove the airway segments between the Norfolk, VA (ORF), VORTAC and the Waterloo, DE (ATR), VOR/DME due to the scheduled decommissioning of the Salisbury, MD (SBY), VORTAC. Additionally, the FAA proposes to add language to the route description that the airway excludes restricted area R-5002F as it is adjacent to VOR Federal Airway V-1 and remove language that the airway excludes restricted area R-4006 as it would no longer be adjacent to VOR Federal Airway V-1.

As amended, the airway would be changed to extend between the Craig VORTAC and the Norfolk VORTAC; and between the Waterloo VOR/DME and the Boston VOR/DME. The portions within R-5002A, R-5002C, R-5002D and R-5002F are excluded during their times of use.

V-29: V-29 currently extends between the Snow Hill, MD (SWL), VORTAC and the Syracuse, NY (SYR), VORTAC. The FAA proposes to remove the airway segments between the Snow Hill VORTAC and the Smyrna, DE (ENO), VORTAC due to the scheduled decommissioning of the Snow Hill VORTAC. As amended, the airway would be changed to extend between the Smyrna VORTAC and the Syracuse VORTAC.

V-38: V-38 currently extends between the Moline, IL (MZV), VOR/DME and the intersection of the Fort Wayne, IN (FWA), VORTAC 091° and the Rosewood, OH (ROD), VORTAC 334° radials (WINES Fix); and between the Appleton, OH (APE), VORTAC and the Cape Charles, VA (CCV), VORTAC. The FAA proposes to remove the Cape Charles VORTAC and replace it with the LNSKY, VA, Fix due to a need for VOR Federal Airway V-38 to connect to the proposed redesigned VOR Federal Airway V-139 in this docket. The LNSKY Fix is defined as the intersection of the Harcum, VA (HCM), VORTAC 100° True (T)/107° Magnetic (M) and the Norfolk, VA (ORF), VORTAC 026°T/033°M radials, and would be charted on VOR Federal Airway V-139. As amended, the airway would be changed to extend between the Moline VOR/DME and the WINES Fix; and between the Appleton VORTAC and the LNSKY Fix.

V-139: V-139 currently extends between the Florence, SC (FLO), VORTAC and the Kennebunk, ME (ENE), VOR/DME. The FAA proposes to remove the Cape Charles, VA (CCV), VORTAC and the Snow Hill, MD (SWL), VORTAC from the route and replace them with a route segment directly between the Norfolk, VA (ORF), VORTAC and the Sea Isle, NJ (SIE), VORTAC due to the scheduled decommissioning of the Snow Hill VORTAC.

The FAA also proposes to add the SUWHT, VA, Fix and the WINAL, NC, Fix to the route between the intersection of the New Bern, NC (EWN), VOR/DME 006° and Norfolk VORTAC 209° radials (PEARS Fix) and the Norfolk VORTAC due to a need to align this portion of the airway to the commonly assigned routing between the PEARS Fix; SUWHT Fix; WINAL Fix; and Norfolk VORTAC. The SUWHT, VA, Fix is defined as the intersection of the Norfolk, VORTAC 209° T/216° M and Elizabeth City, NC (ECG), VOR/DME 243° T/250° M radials; and the WINAL, NC, Fix is defined as the intersection of the Elizabeth City VOR/DME 243° T/250° M and Norfolk VORTAC 194° T/201° M radials.

Additionally, The FAA proposes to add language to the route description that the airway excludes restricted area R-5301, R-5302, R-5303, R-5304, and R-5306 as they are adjacent to VOR Federal Airway V-139; and remove language that the airway excludes restricted area R-5202 as it is not adjacent to VOR Federal Airway V-139. As amended, the airway would continue to extend between the Florence VORTAC and the Kennebunk VOR/DME. The airspace below 2,000 feet mean sea level (MSL) outside the United States, the airspace below 3,000 feet MSL between the Kennedy, NY, 087° and 141° radials, and the airspace within R-5301, R-5302, R-5303, R-5304, R-5306 and R-6604 are excluded.

V-286: V-286 currently extends between the Elkins, WV (EKN), VORTAC and the Cape Charles, VA (CCV), VORTAC. The FAA proposes to remove the airway segment between the Brooke, VA (BRV), VORTAC and the Cape Charles VORTAC due to the Brooke VORTAC being out of service and unable to provide navigational guidance for this airway segment. As amended, the airway would be changed to extend between the Elkins VORTAC and the Brooke VORTAC.

The full descriptions of the above routes are set forth below in the proposed amendments to part 71. The NAVAID radials listed in the VOR Federal airway description regulatory text of this NPRM are stated in degrees True north. Additionally, minor editorial corrections to the airway descriptions are made to comply with ATS route formatting requirements.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6010(a). Domestic VOR Federal Airways.

* * * * *

V-1 [Amended]

From Craig, FL; INT Craig 020° and Charleston, SC, 214° radials; Charleston; Grand Strand, SC; INT Grand Strand 031° and Kinston, NC, 214° radials; Kinston; Cofield, NC; to Norfolk, VA. From Waterloo, DE; INT Waterloo 024° and Coyle, NJ, 216° radials; Coyle; INT Coyle 036° and Kennedy, NY, 209° radials; Kennedy; Deer Park, NY; Madison, CT; Hartford, CT; INT Hartford 040° and Boston, MA, 252° radials; to Boston, MA; excluding the airspace below 2,700 feet MSL outside the United States between STARY INT and Charleston, SC. The portions within R-5002A, R-5002C, R-5002D and R-5002F are excluded during their times of use.

* * * * *

V-29 [Amended]

From Smyrna, DE; Dupont, DE; Modena, PA; Pottstown, PA; East Texas, PA; Wilkes-Barre, PA; Binghamton, NY; INT Binghamton 005° and Syracuse, NY, 169° radials; to Syracuse.

* * * * *

V-38 [Amended]

From Moline, IL; INT Moline 082° and Peotone, IL, 281° radials; Peotone; Fort Wayne, IN; to INT Fort Wayne 091° and Rosewood, OH, 334° radials. From Appleton, OH; Zanesville, OH; Parkersburg, WV; Elkins, WV; Gordonsville, VA; Richmond, VA; Harcum, VA; to INT Harcum 100° T/107° M and Norfolk, VA, 026° T/033° M radials.

* * * * *

V-139 [Amended]

From Florence, SC; Wilmington, NC; New Bern, NC; INT of New Bern 006° and Norfolk, VA, 209° radials; INT Norfolk 209° T/216° M and Elizabeth City, NC 243° T/250° M radials; INT Elizabeth City 243° T/250° M and Norfolk 194° T/201° M radials; Norfolk; Sea Isle, NJ; INT Sea Isle 050° and Hampton, NY, 223° radials; Hampton; Providence, RI; INT Providence 079° and Sandy Point, RI, 031° radials; INT Sandy Point 031° and Kennebunk, ME, 180° radials; to Kennebunk. The airspace below 2,000 feet MSL outside the United States, the airspace below 3,000 feet MSL between the Kennedy, NY, 087° and 141° radials, and the airspace within R-5301, R-5302, R-5303, R-5304, R-5306 and R-6604 are excluded.

* * * * *

V-286 [Amended]

From Elkins, WV; Casanova, VA; INT Casanova 142° and Brooke, VA, 300° radials; to Brooke.

* * * * *

Issued in Washington, DC, on November 20, 2024.
Richard Lee Parks,
Manager (A), Rules and Regulations Group.

[FR Doc. 2024-27562 Filed 11-25-24; 8:45 am]

BILLING CODE 4910-13-P